DEPARTMENT OF THE INTERIOR

Bureau of Indian Affairs

Proclaiming Certain Lands as Reservation for the Jena Band of Choctaw Indians of Louisiana; Correction

AGENCY: Bureau of Indian Affairs, Interior.

ACTION: Correction to notice.

SUMMARY: The Bureau of Indian Affairs published in the Federal Register of April 2, 2007, a notice informing the public that the Principal Deputy Assistant Secretary—Indian Affairs proclaimed approximately 63.52 acres, more or less, as the Jena Band of Choctaw Reservation for the Jena Band of Choctaw Indians of Louisiana (Jena Band). The land description as published contained an error. This action corrects that error.

FOR FURTHER INFORMATION CONTACT: Ben Burshia, Bureau of Indian Affairs, Division of Real Estate Services, Mail Stop 4639-MIB, 1849 C Street, NW., Washington, DC 20240, Telephone (202) 208-7737.

Correction

In the notice document, FR Doc E7-6049, beginning on page 15712, in the issue of Monday, April 2, 2007, make the following correction:

On page 15712, in the third column, second paragraph, fourth line, “17'41” east” should read “18'41” east”.

Dated: April 26, 2007.
George T. Skibine,
Principal Deputy Assistant Secretary—Indian Affairs.

[FR Doc. E7-8578 Filed 5-3-07; 8:45 am]

BILLING CODE 4310-W7-P